DEPARTMENT OF ENERGY

Federal Energy Regulatory Commission

Combined Notice of Filings

Take notice that the Commission has received the following Natural Gas Pipeline Rate and Refund Report filings:

Filings Instituting Proceedings

Docket Numbers: CP14-112-003.

Applicants: National Fuel Gas Supply Corporation and Empire Pipeline, Inc.

Description: Joint Petition to Amend the Certificate of Public Convenience and Necessity.

Filed Date: 6/28/16.

Accession Number: 20160628-5281.

Comments Due: 5 p.m. ET 7/18/16.

Docket Numbers: CP14-96-002.

Applicants: Algonquin Gas Transmission, LLC.

Description: Abbreviated application for limited amendment of the certificate of public convenience and necessity.

Filed Date: 7/01/16.

Accession Number: 20160701-5329.

Comments Due: 5 p.m. ET 7/18/16.

Docket Number: PR16-61-000.

Applicants: SourceGas Distribution LLC.

Description: Tariff filing per 284.123(e) + (g): Statement of Operating Conditions to be effective 6/1/2016; Filing Type: 1280.

Filed Date: 6/30/2016.

Accession Number: 201606305111 http://elibrary.ferc.gov/idmws/doc_info.asp?accession_num=20160415-5222.

Comments Due: 5 p.m. ET 7/21/16.

284.123(g) Protests Due: 5 p.m. ET 8/29/16.

Docket Number: PR16-62-000.

Applicants: Columbia Gas of Ohio, Inc.

Description: Tariff filing per 284.123(b)(1)/.: COH SOC 6-29-2016 to be effective 6/29/2016; Filing Type: 980.

Filed Date: 7/1/16.

Accession Number: 201607015278.

Comments/Protests Due: 5 p.m. ET 7/22/16.

Docket Numbers: RP10-837-000.

Applicants: Dominion Transmission, Inc.

Description: Report Filing: DTI—Operational Gas Sales Report—2016.

Filed Date: 6/30/16.

Accession Number: 20160630-5334.

Comments Due: 5 p.m. ET 7/12/16.

Docket Numbers: RP10-900-000.

Applicants: Dominion Transmission, Inc.

Description: Report Filing: DTI—Informational Fuel Report—2016.

Filed Date: 6/30/16.

Accession Number: 20160630-5335.

Comments Due: 5 p.m. ET 7/12/16.

Docket Numbers: RP16-1084-000.

Applicants: Dominion Transmission, Inc.

Description: Compliance filing DTI—2016 Overrun and Penalty Revenue Distribution.

Filed Date: 7/6/16.

Accession Number: 20160706-5033.

Comments Due: 5 p.m. ET 7/18/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2016.
Nathaniel J. Davis, Sr.,
Deputy Secretary.

[FR Doc. 2016-16666 Filed 7-13-16; 8:45 am]

BILLING CODE 6717-01-P